DEPARTMENT OF THE INTERIOR

Fish and Wildlife Service

[FWS-R7-ES-2016-N164; FXES11130700000-167-FF07C00000]

Endangered and Threatened Wildlife and Plants; Recovery Permit Application

AGENCY: Fish and Wildlife Service, Interior.

ACTION: Notice of availability; request for comments.

SUMMARY: We, the U.S. Fish and Wildlife Service, invite the public to comment on the following application to conduct activities intended to enhance the survival of endangered or threatened species.

DATES: To ensure consideration, please send your written comments by November 7, 2016.

ADDRESSES: You may submit comments or requests for copies or more information by any of the following methods. Alternatively, you may use one of the following methods to request hard copies or a CD-ROM of the documents.

• Email: permitsR7ES@fws.gov. Please refer to the respective permit number (e.g., Permit No. TE-778102) in the subject line of the message.

• U.S. Mail: U.S. Fish and Wildlife Service, MS 361, 1011 East Tudor Road, Anchorage, AK 99503.

FOR FURTHER INFORMATION CONTACT: Drew Crane, Endangered Species Coordinator, Ecological Services, (907) 781-3323 (phone); permitsR7ES@fws.gov (email).

SUPPLEMENTARY INFORMATION:

Background

The Act (16 U.S.C. 1531 et seq.) prohibits certain activities with endangered and threatened species unless authorized by a Federal permit. Along with our implementing regulations at 50 CFR 17, the Act provides for permits and requires that we invite public comment before issuing these permits for endangered species.

A permit granted by us under section 10(a)(1)(A) of the Act authorizes the permittees to conduct activities with U.S. endangered or threatened species for scientific purposes, enhancement of propagation or survival, or interstate commerce (the latter only in the event that it facilitates scientific purposes or enhancement of propagation or survival). Our regulations implementing section 10(a)(1)(A) for these permits are found at 50 CFR 17.22 for endangered wildlife species, 50 CFR 17.32 for threatened wildlife species, 50 CFR 17.62 for endangered plant species, and 50 CFR 17.72 for threatened plant species.

Application Available for Review and Comment

We invite local, State, and Federal agencies and the public to comment on the following application. Documents and other information the applicants have submitted with their applications are available for review, subject to the requirements of the Privacy Act (5 U.S.C. 552a) and Freedom of Information Act (5 U.S.C. 552).

Permit Application Number TE778102

Applicant: Assistant Regional Director, U.S. Fish and Wildlife Service, Anchorage, AK

The applicant requests renewal of an existing permit to purposefully take (display, photograph, harass by survey, capture, handle, weigh, measure, mark, obtain biological samples, breed in captivity, reintroduce, relocate, remove from the wild, kill, and, for plant species only, remove and reduce to possession) all threatened and endangered species listed in the State of Alaska for recovery or scientific purposes or for the enhancement of propagation or for enhancing the species' survival. This permit will allow Fish and Wildlife Service employees and volunteers to lawfully conduct threatened and endangered species activities, in conjunction with recovery activities throughout the species' range, as outlined in Fish and Wildlife Service employees' and volunteers' position descriptions.

National Environmental Policy Act

The proposed activities in the requested permits qualify as categorical exclusions under the National Environmental Policy Act, as provided by Department of the Interior implementing regulations in part 46 of title 43 of the Code of Federal Regulations (43 CFR 46.205, 46.210, and 46.215).

Public Availability of Comments

All comments and materials we receive in response to these requests will be available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: September 21, 2016.
Mary Colligan,
Assistant Regional Director, Alaska Region.

[FR Doc. 2016-24253 Filed 10-6-16; 8:45 am]

BILLING CODE 4333-15-P